CORPORATION FOR NATIONAL AND COMMUNITY SERVICE

Agency Information Collection Activities; Comment Request; NCCC Service Project Application

AGENCY: The Corporation for National and Community Service.

ACTION: Notice of information collection; request for comment.

SUMMARY: In accordance with the Paperwork Reduction Act of 1995, the Corporation for National and Community Service (operating as AmeriCorps) is proposing to renew an information collection.

DATES: Written comments must be submitted to the individual and office listed in the ADDRESSES section by July 22, 2022.

ADDRESSES: You may submit comments, identified by the title of the information collection activity, by any of the following methods:

(1) By mail sent to: AmeriCorps, Attention Jacob Sgambati, 250 E Street SW, Washington, DC 20525.

(2) By hand delivery or by courier to the AmeriCorps mailroom at the mail address given in paragraph (1) above, between 9 a.m. and 4 p.m. Eastern Time, Monday through Friday, except Federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Jacob Sgambati, 202-246-3131, or by email at jsgambati@cns.gov.

SUPPLEMENTARY INFORMATION:

Title of Collection: AmeriCorps NCCC Service Project Application.

OMB Control Number: 3045-0010. Type of Review: Renewal.

Respondents/Affected Public: Current/prospective AmeriCorps NCCC sponsors.

Total Estimated Number of Annual Responses: 1,800.

Total Estimated Number of Annual Burden Hours: 17,100.

Abstract: The AmeriCorps NCCC Service Project Application is completed by organizations interested in sponsoring an AmeriCorps NCCC team. Each year, AmeriCorps NCCC engages teams of members in service projects in communities across the United States. The service projects, which typically last from six to eight weeks, address critical needs in natural and other disasters, infrastructure improvement, environmental stewardship and conservation, energy conservation, and urban and rural development. Members construct and rehabilitate low-income housing, respond to natural disasters, clean up streams, help communities develop emergency plans, and address other local needs. AmeriCorps also seeks to continue using the currently approved information collection until the revised information collection is approved by OMB. There have been several changes made in an effort to streamline the document for users. Based on feedback from stakeholders, the document now has additional project objective options for users to select and the radio buttons have been changed to check boxes to allow for users to select as many objectives as they would like. The NCCC Service Project Application was simplified by deleting the “Organizational Capacity” and “Needs” narrative pages. The currently approved information collection is due to expire on 10/31/22.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: May 16, 2022.
Jacob Sgambati,
Deputy Director.

[FR Doc. 2022-11001 Filed 5-20-22; 8:45 am]

BILLING CODE 6050-28-P